DEPARTMENT OF HOMELAND SECURITY

Federal Emergency Management Agency

44 CFR Part 64

[Docket No. FEMA-7786]

List of Communities Eligible for the Sale of Flood Insurance

AGENCY: Mitigation Division, Federal Emergency Management Agency (FEMA), Department of Homeland Security.

ACTION: Final rule.

SUMMARY: This rule identifies communities that are participating and suspended from the National Flood Insurance Program (NFIP). These communities have applied to the program and have agreed to enact certain floodplain management measures. The communities' participation in the program authorizes the sale of flood insurance to owners of properties located in the communities listed below.

DATES: Effective Dates: The effective date for each community is listed in the fourth column of the following tables.

ADDRESSES: Flood insurance policies for properties located in the communities listed below can be obtained from any licensed property insurance agent or broker serving the eligible community or from the NFIP by calling 1-800-638-6620.

For Additional Information Contact: William H. Lesser, Mitigation Division, 500 C Street, SW., Washington, DC 20472, (202) 646-2807.

SUPPLEMENTARY INFORMATION: The NFIP enables property owners to purchase flood insurance that is generally not otherwise available. In return, communities agree to adopt and implement local floodplain management regulations that contribute to protecting lives and reducing the risk of new construction from future flooding. Because the communities on the attached list have recently entered the NFIP, subsidized flood insurance is now available for properties in these communities.

FEMA has identified the Special Flood Hazard Areas (SFHAs) in some of these communities by publishing a Flood Hazard Boundary Map (FHBM) or Flood Insurance Rate Map (FIRM). The date of the flood map, if one has been published, is indicated in the fourth column of the table. In the communities listed where a flood map has been published, section 202 of the Flood Disaster Protection Act of 1973, as amended, 42 U.S.C. 4016(a), requires the purchase of flood insurance as a condition of Federal or Federally-related financial assistance for acquisition or construction of buildings in the SFHAs shown on the map.

The Administrator finds that delayed effective dates would be contrary to the public interest and that notice and public procedure under 5 U.S.C. 553(b) are impracticable and unnecessary.

National Environmental Policy Act. This rule is categorically excluded from the requirements of 44 CFR part 10, Environmental Considerations. No environmental impact assessment has been prepared.

Regulatory Flexibility Act. The Administrator certifies that this rule will not have a significant economic impact on a substantial number of small entities in accordance with the Regulatory Flexibility Act, 5 U.S.C. 601 et seq., because the rule creates no additional burden, but lists those communities eligible for the sale of flood insurance.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 is revised to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State | Location | Community No. | Effective date of eligibility | Current effective map date
New Eligibles: Emergency Program
Region VII
Missouri | Theodosia, Village of, Ozark County | 290306 | January 25, 2006 | Never Mapped.
Region III
West Virginia | West Liberty, Town of, Ohio County | 540094 | February 2, 2006 | Never Mapped.
Region V
Ohio | Sarahsville, Village of, Noble County | 390706 | February 9, 2006 | FHBM dated March 28, 1975.
Region VI
Oklahoma | Atoka County, Unincorporated Areas | 400508 | ......*do | FHBM dated August 14, 1981.
Do | Pontotoc County, Unincorporated Areas | 400495 | ......do | FHBM dated January 10, 1978.
Region IV
Kentucky | Morgantown, Town of, Butler County | 210242 | February 10, 2006 | Never Mapped.
Do | St. Charles, Town of, Hopkins County | 210320 | ......do | FHBM dated August 13, 1976.
North Carolina | Lasker, Town of, Northampton County | 370580 | ......do | Never Mapped.
Region V
Ohio | LaGrange, Village of, Lorain County | 390806 | ......do | FHBM dated December 23, 1977.
Region I
Maine | Jonesboro, Town of, Washington County | 230315 | February 27, 2006 | FHBM dated February 14, 1975.
Region IV
Alabama | Butler County, Unincorporated Areas | 010017 | ......do | FHBM dated April 21, 1976.
Georgia | Preston, City of, Webster County | 135170 | ......do | Never Mapped.
Do | Webster County, Unincorporated Areas | 135268 | ......do | Never Mapped.
South Carolina | Mayesville, Town of, Sumter County | 450225 | ......do | FHBM dated March 19, 1976.
Region VII
Kansas | Atchison County, Unincorporated Areas | 200009 | ......do | FHBM dated May 31, 1977.
Iowa | Cherokee County, Unincorporated Areas | 190854 | March 8, 2006 | FHBM dated May 6, 1977.
Region III
Maryland | Somerset, Town of, Montgomery County | 240134 | March 9, 2006 | Never Mapped.
Region VI
New Mexico | Dexter, Town of, Chaves County | 350112 | March 14, 2006 | FHBM dated September 17, 1976.
Louisiana | Angie, Village of, Washington Parish | 220231 | March 22, 2006 | FHBM dated January 3, 1975.
Region IV
Georgia | Hampton, City of, Henry County | 130107 | March 27, 2006 | Never Mapped.
Do | Warren County, Unincorporated Areas | 135262 | ......do | Never Mapped.
Kentucky | Adairville, City of, Logan County | 210353 | ......do | FHBM dated September 8, 1978.
Tennessee | Medina, City of, Gibson County | 470251 | ......do | Never Mapped.
New Eligibles: Regular Program
Region VII
Iowa | Prescott, City of, Adams County | 190004 | January 1, 2006 | FHBM dated November 5, 1976, converted to FIRM by letter January 1, 2006.
Missouri | Hallsville, Town of, Boone County | 290712 | ......do | NSFHA FHBM Rescinded.
Region III
Virginia | Round Hill, Town of, Loudoun County | 510279 | January 10, 2006 | July 5, 2001.
Region VI
Arkansas | Horseshoe Lake, Town of, Crittenden County | 055057 | January 18, 2006 | Use Crittenden County (CID 050429) FIRM panel 0250B, dated November 1, 1985.
Region IV
Tennessee | Pickett County, Unincorporated Areas | 470384 | February 1, 2006 | FHBM dated December 29, 1978, converted to FIRM by letter February 1, 2006.
Region III
West Virginia | Harrisville, Town of, Richie County | 540132 | February 7, 2006 | NSFHA.
Region IV
Alabama | Chilton County, Unincorporated Areas | 010030 | ......do | August 15, 1984.
South Carolina | Bethune, Town of, Kershaw County | 450116 | February 10, 2006 | December 6, 2000.
Alabama | Cullman County, Unincorporated Areas | 010247 | February 27, 2006 | December 2, 2004.
Do | Silas, Town of, Choctaw County | 010036 | ......do | September 30, 1988.
Region VII
Nebraska | Center, Village of, Knox County | 310159 | ......do | August 18, 2005.
Region V
Minnesota | Greenwood, Township of, St. Louis County | 270736 | March 8, 2006 | February 19, 1992.
Region VII
Missouri | Kingdom City, Village of, Callaway County | 290007 | ......do | Use Callaway County (CID 290049) FIRM panel 0200D, dated February 18, 2005.
Region III
Maryland | Chevy Chase Village, Town of, Montgomery County | 240047 | March 13, 2006 | NSFHA.
Region VII
Nebraska | Gosper County, Unincorporated Areas | 310438 | March 22, 2006 | August 4, 2005.
Iowa | **Montour, City of, Tama County | 190782 | ......do | January 19, 2006.
Region X
Idaho | Carey, City of, Blaine County | 160234 | ......do | April 20, 2000.
Region V
Wisconsin | Fontana on Geneva Lake, Village of, Walworth County | 550592 | March 23, 2006 | December 23, 1977.
Region VII
Nebraska | Elwood, Village of, Gosper County | 310365 | March 31, 2006 | August 4, 2005.
Reinstatements
Region VII
Nebraska | Perkins County, Unincorporated Areas | 310464 | January 17, 2006 | September 2, 2005.
Region III
Pennsylvania | Limestone, Town of, Northampton County | 421922 | February 10, 2006 | June 1, 1987.
Region IV
North Carolina | Henderson County, Unincorporated Areas | 370125 | February 27, 2006 | March 1, 1982.
Tennessee | Benton County, Unincorporated Areas | 470218 | ......do | December 16, 2005.
Do | McNairy County, Unincorporated Areas | 470127 | ......do | October 24, 2005.
Region VII
Missouri | Westphalia, City of, Osage County | 290272 | March 3, 2006 | September 2, 2005.
Suspensions
Region V
Ohio | Washington County, Unincorporated Areas | 390566 | December 24, 1975, Emerg.; February 18, 1981, Reg.; March 17, 2006, Susp | February 16, 2006.
Minnesota | Lac Qui Parle County, Unincorporated Areas | 270239 | July 3, 1974, Emerg.; June 4, 1980, Reg.; March 17, 2006, Susp | March 16, 2006.
Region VI
Arkansas | Quitman, Town of, Cleburne County | 050280 | December 22, 1982, Emerg.; October 15, 1985, Reg.; March 17, 2006, Susp | February 16, 2006.
Region VII
Missouri | Baldwin Park, Village of, Cass County | 290880 | July 19, 1979, Emerg.; August 5, 1985, Reg.; March 17, 2006, Susp | March 16, 2006.
Do | Browning, City of, Linn County | 290619 | July 25, 1975, Emerg.; September 18, 1985, Reg.; March 17, 2006, Susp | January 19, 2006.
Do | Creighton, City of, Cass County | 290063 | August 3, 1979, Emerg.; June 30, 1980, Reg.; March 17, 2006, Susp | March 16, 2006.
Do | East Lynne, City of, Cass County | 290065 | August 11, 1975, Emerg.; March 25, 1980, Reg.; March 17, 2006, Susp | Do.
Do | Purcell, City of, Jasper County | 290539 | September 3, 1975, Emerg.; September 19, 1984, Reg.; March 17, 2006, Susp | Do.
Suspension Rescissions
Region V
Minnesota | Boyd, City of, Lac Qui Parle County | 270240 | March 17, 2006, Suspension Notice Rescinded | March 16, 2006.
Do | Dawson, City of, Lac Qui Parle County | 270241 | ......do | Do.
Ohio | Batavia, Village of, Clermont County | 390066 | ......do | Do.
Do | Clermont County, Unincorporated Areas | 390065 | ......do | Do.
Do | Milford, City of, Clermont and Hamilton Counties | 390227 | ......do | Do.
Do | Neville, Village of, Clermont County | 390641 | ......do | Do.
Do | South Point, Village of, Lawrence County | 390630 | ......do | Do.
Region VII
Missouri | Annapolis, City of, Iron County | 290763 | ......do | February 16, 2006.
Do | Airport Drive, Village of, Jasper County | 290761 | ......do | March 16, 2006.
Do | Belton, City of, Cass County | 290062 | ......do | Do.
Do | Carl Junction, City of, Jasper County | 290179 | ......do | Do.
Do | Carterville, City of, Jasper County | 290180 | ......do | Do.
Do | Carthage, City of, Jasper County | 290181 | ......do | Do.
Do | Cass County, Unincorporated Areas | 290783 | ......do | Do.
Do | Drexel, City of, Bates and Cass Counties | 290064 | ......do | Do.
Do | Duenweg, City of, Jasper County | 290182 | ......do | Do.
Do | Freeman, City of, Cass County | 290066 | ......do | Do.
Do | Garden City, City of, Cass County | 290067 | ......do | Do.
Do | Joplin, City of, Jasper and Newton Counties | 290183 | ......do | Do.
Do | Lake Annette, City of, Cass County | 290953 | ......do | Do.
Do | Oronogo, City of, Jasper County | 290185 | ......do | Do.
Do | Peculiar, City of, Cass County | 290878 | ......do | Do.
Do | Pleasant Hill, City of, Cass County | 295269 | ......do | Do.
Do | Raymore, City of, Cass County | 290070 | ......do | Do.
Do | Sarcoxie, City of, Jasper County | 290186 | ......do | Do.
Do | Strasburg, City of, Cass County | 290071 | ......do | Do.
Do | Webb City, City of, Jasper County | 290187 | ......do | Do.
Region VIII
Utah | Coalville, City of, Summit County | 490135 | ......do | Do.
Do | Henefer, Town of, Summit County | 490136 | ......do | Do.
Do | Oakley, Town of, Summit County | 490138 | ......do | Do.
* -do- =Ditto.
**Designates communities converted from Emergency Phase of participation to the Regular Phase of participation.
Code for reading fourth and fifth columns: Emerg.—Emergency; Reg.—Regular; Rein.—Reinstatement; Susp.—Suspension; With.—Withdrawn; NSFHA.—Non Special Flood Hazard Area.

(Catalog of Federal Domestic Assistance No. 83.100, “Flood Insurance.”)

Dated: June 21, 2006.
Michael K. Buckley,
Deputy Director, Mitigation Division, Federal Emergency Management Agency, Department of Homeland Security.

[FR Doc. E6-11510 Filed 7-19-06; 8:45 am]

BILLING CODE 9110-12-P